DEPARTMENT OF ENERGY

Federal Energy Regulatory Commission

[Docket No. AD20-23-000]

Notice of Availability of Final Engineering Guidelines for the Evaluation of Hydropower Projects: Chapter 18—Level 2 Risk Analysis

The staff of the Federal Energy Regulatory Commission (FERC or Commission) has prepared a final “Chapter 18—Level 2 Risk Analysis” of its Engineering Guidelines for the Evaluation of Hydropower Projects (Guidelines). This chapter is one of four new chapters of the Guidelines intended to provide additional guidance related to 18 CFR part 12, Safety of Water Power Projects and Project Works, Docket No. RM20-9-000, Order No 880, issued by the Commission on December 16, 2021.

On July 16, 2020, the Commission issued a Notice of Proposed Rulemaking (NOPR) to revise its part 12 regulations. On the same day, the Commission solicited public review and comment on four new draft chapters of its Guidelines. Draft Chapter 18 was part of that issuance.

The Commission received nine comment letters in response to draft Chapter 18. Most of the comments were submitted by licensees and individuals through trade associations, including National Hydropower Association, Dam Safety Interest Group of CEATI International, and US Society on Dams, as well as the US Army Corps of Engineers. Comments were also received from individual licensees, corporations, and individuals, including McMillen Jacobs Associates, David L. Mathews, City of North Little Rock Electric, Central Nebraska Public Power and Irrigation District, and Upper Peninsular Power Company.

In all, the nine comment letters consisted of over 250 discrete comments. The comments received were varied and ranged from requesting clarification of the overall need and approach to a risk analysis process to questions regarding implementation and execution of the risk analysis process. Commenters requested clarification of procedural aspects of performing a risk analysis and recommended improvements to the risk analysis process and methodology. Commenters asked the Commission to:

• Consider that there is a limited availability of qualified individuals and consultants with the requisite experience and training to perform a semi-quantitative risk analysis;

• Consider that the risk analysis process will increase the cost of conducting a Part 12D report;

• Provide additional guidance on conducting hydrologic hazard analyses and consequence estimates;

• Clarify whether training will be available from FERC or others for risk analysis facilitators and others conducting risk analyses; and

• Provide additional guidance on the screening of potential failure modes prior to conducting the risk analysis.

Commission staff has considered all comments in finalizing Chapter 18 of the Engineering Guidelines. Based on the comments received, Chapter 18 has been revised to:

• Clarify the qualifications and role of the risk analysis facilitator(s) and team members;

• Clarify the identification and screening of potential failure modes;

• Provide additional discussion and examples of the critical load method to estimate the likelihood of failure;

• Provide clarification and additional guidance on estimating consequences (e.g., life safety consequences, economic consequences, financial consequences for damage state potential failure modes, and environmental and other non-monetary consequences);

• Add a risk analysis matrix for incremental financial/damage state consequences; and

• Include background information on developing hydrologic hazard curves for semi-quantitative risk analyses.

All information related to “Chapter 18—Level 2 Risk Analysis,” including the draft chapter, all submitted comments, and the final chapter, can be found on the FERC website (www.ferc.gov) using the eLibrary link. Click on the eLibrary link, click on “General Search” and enter the docket number, excluding the last three digits in the Docket Number field (i.e., AD20-23). Be sure you have selected an appropriate date range. The Commission also offers a free service called eSubscription which allows you to keep track of all formal issuances and submittals in specific dockets. This can reduce the amount of time you spend researching proceedings by automatically providing you with electronic notification of these filings and direct links to the documents. Go to the Commission's website (www.ferc.gov), select the FERC Online option from the left-hand column, and click on eSubscription. Users must be registered in order to use eSubscription.

The final version of Chapter 18 is also available on the Commission's Division of Dam Safety and Inspections website at: Engineering Guidelines for the Evaluation of Hydropower Projects | Federal Energy Regulatory Commission (ferc.gov).

Information Collection Statement

Chapter 18 includes information collection activities for which the Paperwork Reduction Act, 44 U.S.C. 3501-3521, requires approval by the Office of Management and Budget (OMB). The Commission has included the burden and cost estimates for information collection activities related to this chapter in the rulemaking document (Docket No. RM20-9-000, Order No. 880). The Commission has designated the information collection activities in the rule as FERC-517. Upon final approval of FERC-517, OMB will assign an OMB Control Number and expiration date.

Send written comments on FERC-517 to the Office of Management and Budget (OMB) through www.reginfo.gov/public/do/PRAMain, Attention: Federal Energy Regulatory Commission Desk Officer. Please identify the OMB control number (1902-TBD) in the subject line. Your comments should be sent within 30 days of publication of this notice in the Federal Register. OMB submissions must be formatted and filed in accordance with submission guidelines at www.reginfo.gov/public/do/PRAMain. Using the search function under the “Currently Under Review field,” select Federal Energy Regulatory Commission; click “submit” and select “comment” to the right of the subject collection.

For assistance with any of the Commission's online systems, please contact FERC Online Support at FercOnlineSupport@ferc.gov or toll free at (866) 208-3676, or for TTY, contact (202) 502-8258.

Dated: December 16, 2021.
Kimberly D. Bose,
Secretary.

[FR Doc. 2021-27779 Filed 12-22-21; 8:45 am]

BILLING CODE 6717-01-P